INTERNATIONAL TRADE COMMISSION

[Investigation Nos. 701-TA-582 and 731-TA-1377 (Final)]

Ripe Olives From Spain; Determinations

On the basis of the record ¹ developed in the subject investigations, the United States International Trade Commission (“Commission”) determines, pursuant to the Tariff Act of 1930 (“the Act”), that an industry in the United States is materially injured by reason of imports of ripe olives from Spain, provided for in subheadings 2005.70.02, 2005.70.04, 2005.70.50, 2005.70.60, 2005.70.70, and 2005.70.75 of the Harmonized Tariff Schedule of the United States, that have been found by the U.S. Department of Commerce (“Commerce”) to be sold in the United States at less than fair value (“LTFV”) and to be subsidized by the government of Spain.²

¹ The record is defined in sec. 207.2(f) of the Commission's Rules of Practice and Procedure (19 CFR 207.2(f)).

² Commissioner Meredith M. Broadbent dissenting. Commissioner Jason E. Kearns did not participate in these investigations.

Background

The Commission, pursuant to sections 705(b) and 735(b) of the Act (19 U.S.C. 1671d(b) and 19 U.S.C. 1673d(b)), instituted these investigations effective June 22, 2017, following receipt of a petition filed with the Commission and Commerce by the Coalition of Fair Trade in Ripe Olives, consisting of Bell-Carter Foods, Walnut Creek, CA, and Musco Family Olive Company, Tracy, CA. The final phase of the investigations was scheduled by the Commission following notification of preliminary determinations by Commerce that imports of ripe olives from Spain were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on February 22, 2018 (83 FR 7774). The hearing was held in Washington, DC, on May 24, 2018, and all persons who requested the opportunity were permitted to appear in person or by counsel.

The Commission made these determinations pursuant to sections 705(b) and 735(b) of the Act (19 U.S.C. 1671d(b) and 19 U.S.C. 1673d(b)). It completed and filed its determinations in these investigations on July 25, 2018. The views of the Commission are contained in USITC Publication 4805 (July 2018), entitled Ripe Olives from Spain: Investigation Nos. 701-TA-582 and 731-TA-1377 (Final).

By order of the Commission.
Issued: July 25, 2018.
Lisa Barton,
Secretary to the Commission.

[FR Doc. 2018-16283 Filed 7-30-18; 8:45 am]

BILLING CODE 7020-02-P